DEPARTMENT OF THE INTERIOR

Fish and Wildlife Service

[Docket No. FWS-R6-ES-2014-0048; FF06E220000-178-FXES11140600000]

Endangered and Threatened Wildlife and Plants; Incidental Take Permit Application; Draft R-Project Transmission Line Habitat Conservation Plan for the American Burying Beetle and Draft Environmental Impact Statement

AGENCY: Fish and Wildlife Service, Interior.

ACTION: Notice; reopening of public comment period.

SUMMARY: We, the U.S. Fish and Wildlife Service (Service), are reopening the comment period for the public to review the draft Habitat Conservation Plan for the R-Project Transmission Line in Nebraska (HCP), draft Environment Impact Statement of the R-Project HCP (DEIS), draft Migratory Bird Conservation Plan (MBCP); and draft Restoration Management Plan. The HCP identifies conservation measures to minimize and mitigate the potential effects of incidental take of the American burying beetle from the construction, operations, and maintenance of the R-Project transmission line. If you previously submitted comments, you need not resubmit them; we have already incorporated them into the public record and will fully consider them in finalizing these documents.

DATES: Comment submission: To ensure consideration, written comments must be submitted by November 7, 2017.

ADDRESSES: Submitting comments: To send written comments, please use one of the following methods, and note that your information requests or comments are in reference to the draft R-Project HCP. Please specify which document your comment addresses.

• Internet: Submit comments at http://www.regulations.gov to Docket Number FWS-R6-ES-2014-0048.

• U.S. Mail: Public Comments Processing, Attn: Docket No. FWS-R6-ES-2014-0048; U.S. Fish and Wildlife Service Headquarters, MS: BPHC; 5275 Leesburg Pike, Falls Church, VA 22041-3803.

FOR FURTHER INFORMATION CONTACT: Eliza Hines, at 308-382-6468, extension 204 (phone), or eliza_hines@fws.gov (email). If you use a telecommunications device for the deaf, hard-of-hearing, or speech disabled, please call the Federal Relay Service at 800-877-8339.

SUPPLEMENTARY INFORMATION: We, the U.S. Fish and Wildlife Service (Service), are reopening the comment period for the public to review the draft Habitat Conservation Plan for the R-Project Transmission Line in Nebraska (HCP), draft Environment Impact Statement of the R-Project HCP (DEIS), draft Migratory Bird Conservation Plan (MBCP), and draft Restoration Management Plan. The HCP identifies conservation measures to minimize and mitigate the potential effects of incidental take of the American burying beetle. As of July 3, 2017, we received requests from over 60 individuals and organizations to provide a longer comment period. In response to these requests, we are reopening the comment period. If you previously submitted comments, you need not resubmit them; we have already incorporated them into the public record and will fully consider them in finalizing these documents.

On May 12, 2017, we opened a 60-day public comment period via a Federal Register notice (82 FR 22153). This comment period officially closed on July 11, 2017. Public meetings were held in the cities of Sutherland, Nebraska, on June 12, 2017; Thedford, Nebraska, on June 13, 2017; and Burwell, Nebraska on June 14, 2017. As of July 3, 2017, we received requests from over 60 individuals and organizations to add more time for public review. In response to these requests, we are reopening the comment period (see DATES).

Background

For background information, see our May 12, 2017, notice (82 FR 22153).

Document Availability

The draft HCP, DEIS, draft MBCP, and draft Restoration Management Plan are available via the Internet at the Federal eRulemaking Portal (www.regulations.gov) in Docket No. FWS-R6-ES-2014-0048. Information regarding the DEIS and accompanying documents is available in alternative formats upon request (see FOR FURTHER INFORMATION CONTACT). Documents will also be available for public inspection by appointment (call 308-382-6468, extension 204) during normal business hours at the U.S. Fish and Wildlife Service, Nebraska Field Office, 9325 South Alda Road, Wood River, NE 68883. An electronic copy of all four documents on a CD is available upon request (see FOR FURTHER INFORMATION CONTACT). Additionally, electronic copies of all four documents are available for viewing at the following locations:

• North Platte Public Library, 120 West 4th Street, North Platte, Nebraska.

• Logan County Library, 317 Main Street, Stapleton, Nebraska.

• Hooker County Library, 102 North Cleveland Avenue, Mullen, Nebraska.

• Garfield County Library, 217 G Street, Burwell, Nebraska.

• Ewing Township Library, 202 East Nebraska, Ewing, Nebraska.

• Ainsworth Public Library, 455 North Main Street, Ainsworth, Nebraska.

• Valentine Public Library, 324 North Main Street, Valentine, Nebraska.

• Thomas County Library, 501 Main Street, Thedford, Nebraska.

Marjorie Nelson,
Chief—Ecological Services, Mountain-Prairie Region, U.S. Fish and Wildlife Service, Lakewood, Colorado.

[FR Doc. 2017-18823 Filed 9-7-17; 8:45 am]

BILLING CODE 4333-15-P